GENERAL SERVICES ADMINISTRATION

[Notice-MY-2023-01; Docket No. 2023-0002; Sequence No. 1]

Office of Shared Solutions and Performance Improvement (OSSPI); Chief Data Officers Council (CDO); Notification of Upcoming Public Meeting

AGENCY: Office of Government-wide Policy, General Services Administration (GSA).

ACTION: Meeting notice.

SUMMARY: The Federal Chief Data Officers Council (CDO Council) is having a public meeting during which the CDO Council will provide updates about its activities and the implementation of the Chief Data Officer role in the Federal Government. The meeting will include panel discussions on how CDOs are impacting their agency missions and collaborating across the Government to address data challenges. There will also be presentations about the role of data in key administration priorities such as Diversity, Equity, Inclusion, and Accessibility (DEIA). The meeting will include a chance to submit written questions.

DATES: The CDO Council Public meeting will be held virtually on Friday, February 10, 2023 from 1 p.m. to 4:00 p.m. eastern time (ET).

ADDRESSES: Interested individuals must register to attend via the CDO Council website. To register for the meeting, please visit https://www.cdo.gov/public-meeting-2023/. Additional information about the public meeting, including meeting materials and the agenda, will be published on-line as it becomes available. The meeting will be recorded, and the recording will be posted online on https://www.cdo.gov/.

FOR FURTHER INFORMATION CONTACT: Ken Ambrose and Ashley Jackson, Senior Advisors, Office of Shared Solutions and Performance Improvement, Office of Government-wide Policy, General Services Administration, 1800 F Street NW, (Mail-code: MY), Washington, DC 20405, at 202-215-7330 (Ken Ambrose) and 202-538-2897(Ashley Jackson), or cdocstaff@gsa.gov.

SUPPLEMENTARY INFORMATION:

CDO Council Background

The Federal Chief Data Officers (CDO) Council was established by the Foundations for Evidence-Based Policymaking Act (Pub. L. 115-435), which also requires all Federal agencies to appoint a CDO. The Council's vision is to improve Government mission achievement and increase the benefits to the Nation through improvement in the management, use, protection, dissemination, and generation of data in government decision-making and operations. The CDO Council has more than 90 member CDOs from across the Federal Government, as well as representatives from the Office of Management and Budget, and other key councils and committees. The CDO Council has working groups that focus on critical topics as well as committees that help Federal agencies connect and collaborate. The CDO Council also works with other interagency executive councils on data related topics and activities. The CDO Council engages with the public and private users of Government data to improve data practices and access to data assets.

The CDO Council public meeting is for Federal employees as well as any members of the public, including industry, civil society, academia, and any users of Federal Government data. As a result of this meeting, the public will learn about the CDO Council efforts to expand the strategic use of data by Federal agencies, how the Federal Government is working to improve access to data assets, and how cross-agency councils are collaborating on data challenges. The public will also learn how data plays a critical role in this Administration's priorities.

Procedures for Attendance and Public Comment

Register to attend the public meeting via the CDO Council website at https://www.cdo.gov/public-meeting-2023/. Attendees must register by 5 p.m. ET, on Tuesday, February 7, 2023. (GSA will be unable to provide technical assistance to attendees during the meeting.)

Accommodations

This meeting will include American Sign Language (ASL) interpretation as well as captioning services. Meeting materials will be posted to the meeting website in advance of the meeting. To request additional accommodations for a disability, please contact cdocstaff@gsa.gov at least seven (7) calendar days prior to the meeting to allow as much time as possible to process your request.

Background

The Chief Data Officers (CDO) Council was established in accordance with the requirements of the Foundations for Evidence-Based Policymaking Act of 2018 (Pub. L. 115-435). The Council's vision is to improve Government mission achievement and increase the benefits to the Nation through improvement in the management, use, protection, dissemination, and generation of data in Government decision-making and operations.

February 10, 2023 Meeting Agenda

• Call to Order and Logistics

• Welcome and CDO Council Accomplishments from the Chief Data Officers (CDO) Council Chair

• CDO Council, CDOs and Implementation of the Evidence Act

• Federal Data and the Evolving Role of the Federal CDO

• Panel Discussion: Driving Results for the People

• Public Comments and Questions

• Panel Discussion: Teamwork makes the Dream work—Collaboration Driving Success

• Panel Discussion: Supporting Operational Relevance

• The Power of Data for Improving Diversity, Equity, Inclusion, and Accessibility

• Closing Remarks

Ashley Jackson,
Senior Advisor CDO Council, Office of Shared Solutions and Performance Improvement, General Services Administration.

[FR Doc. 2023-00054 Filed 1-5-23; 8:45 am]

BILLING CODE 6820-14-P